DEPARTMENT OF EDUCATION

Office of Elementary and Secondary Education; Consolidated State Applications Under Section 9302 of the Elementary and Secondary Education Act

AGENCY: Department of Education.

ACTION: Notice of final requirements.

SUMMARY: We announce final requirements for optional State consolidated applications submitted under section 9302 of the Elementary and Secondary Education Act of 1965 (ESEA), as reauthorized by the No Child Left Behind Act of 2001, Pub. L. 107-110 (NCLB). Submitting a consolidated application will allow a State to obtain funds under many Federal programs through a single application, rather than through separate applications for each program. To receive fiscal year (FY) 2002 program funds on a timely basis, a State educational agency's (SEA's) application will need to be received no later than June 12, 2002.

DATES: These requirements are effective June 21, 2002.

FOR FURTHER INFORMATION CONTACT: Marcia Kingman, Office of Elementary and Secondary Education, U.S. Department of Education, 400 Maryland Avenue, SW., Room 3E213, Washington, DC 20202-6400. Telephone: (202) 260-2199. If you use a telecommunications device for the deaf (TDD), you may call the Federal Information Relay Service (FIRS) at 1-800-877-8339.

Individuals with disabilities may obtain this document in an alternative format (e.g., Braille, large print, audiotape, or computer diskette) on request to the contact person for information identified in the preceding paragraph.

SUPPLEMENTARY INFORMATION: President Bush signed The No Child Left Behind Act of 2001 (Pub. L. 107-110) (NCLB) into law on January 8, 2002. NCLB, which substantially revised the Elementary and Secondary Education Act of 1965 (ESEA), is intended to provide all of America's school children with the opportunity and means to achieve academic success. It embodies the four key principles of the President's education reform plan: (1) Accountability for results, (2) expanded State and local flexibility and reduced “red tape,” (3) expanded choices for parents, and (4) focusing resources on proven educational methods, particularly in reading instruction.

These principles aim to produce fundamental reforms in classrooms throughout America. NCLB provides officials and educators at the school, school district, and State levels substantial flexibility to plan and implement school programs that will help close the achievement gap between disadvantaged and minority students and their peers. At the same time, the reauthorized Act holds school officials accountable—to parents, students, and the public—for achieving results. These and other major changes to the ESEA redefine the Federal role in K-12 education to focus on improving the academic performance of all students.

The full text of this law may be found on the Internet at: http://www.ed.gov/legislation/ESEA02/.

On March 6, 2002, the Department published in the Federal Register a notice of proposed requirements for optional consolidated State applications (67 FR 10166). That notice explains the general purpose of consolidated State applications that Congress has authorized in ESEA sections 9301 and 9302 as an alternative means for States to receive finding under most ESEA programs. These provisions authorize the State, in consultation with the Governor, to apply for ESEA program funds on the basis of a consolidated State application that conforms to the criteria and procedures the Department establishes, rather than by submitting the individual applications or plans that the ESEA otherwise requires.

The March 6 notice also explained our proposal for using this application and the consolidated performance report that States thereafter annually would submit, as the basis for a core system of ESEA accountability for student achievement. Specifically, we proposed that each State adopt (1) six overall “performance goals” that cut across the ESEA programs, (2) a minimum core of common performance indicators for measuring progress toward these goals, and (3) State-defined performance targets that define when satisfactory progress occurs. We also proposed that each State then would collect reliable data with which it would determine whether it is meeting its performance targets.

As we explained in the March 6 notice, this proposal was guided by a set of basic principles in the ESEA emphasizing that successful academic performance depends upon schools that—

• Provide instruction that, based on rigorous research, will improve student achievement;

• Have highly qualified teachers and principals;

• Provide a learning environment that is safe, drug-free, and conducive to learning; and

• Are accountable to the public for results.

The final requirements for consolidated State applications contain several significant changes from those we had proposed, which we explain in the Analysis of Public Comments that is available on the Department's web site at http://www.ed.gov/offices/OESE/esea/regsandguidance.html.

I. Principal Changes From Our March 6, 2002 Proposal

In response to our request for public comment, we received 53 letters of comments and recommendations. On March 28, 2002, the Department also conducted a listening session where State officials from nine States discussed our proposal. After reviewing all of these comments and recommendations, we have made several changes to our proposal. The principal changes are the following:

ESEA Accountability System: Appendix A

We have reduced the number of Goals from six to five, and the number of indicators from 17 to ten. The ESEA Goals are now:

1. By 2013-2014, all students will reach high standards, at a minimum attaining proficiency or better in reading/language arts and mathematics.

2. All limited English proficient students will become proficient in English and reach high academic standards, at a minimum attaining proficiency or better in reading/language arts and mathematics.

3. By 2005-2006, all students will be taught by highly qualified teachers.

4. All students will be educated in learning environments that are safe, drug free, and conducive to learning.

5. All students will graduate from high school.

The changes in goals and indicators reflect the following:

Goal 1

• Modification of Indicators 1.1 and 1.2 to focus on the percentage of students in all schools, rather than in Title I schools, in each subgroup and in the aggregate who gain proficiency in reading/language arts and mathematics.

• Change of definition of subgroups from those identified in section 1111(b)(2)(C)(v) for adequate yearly progress, to those identified in section 1111(h)(1)(C)(i) for reporting State assessment results—thus bringing in reporting by migrant status and gender.

• Withdrawal of proposed Indicators 1.4 and 1.5: “The percentage of migrant students who are enrolled in schools in need of improvement,” and “The percentage of students that meet or exceed State standards for student literacy in technology.”

Proposed Goal 2

• Withdrawal of proposed Goal 2: “By 2013-2014, all students will be proficient in reading/language arts and mathematics by the end of the third grade,” and Indicator 2.1: “The percentage of students in third grade reading/language arts at grade level or above.”

Goal 2 (Proposed Goal 3)

• Revision of statement of Goal 2 to include goal of reaching high academic standards, at a minimum attaining proficiency in reading/language arts and mathematics.

• Revision of Indicator 2.1 (proposed 3.1) to clarify that the percentage of limited English proficient students who have attained English language by the end of the year is to be determined on a cohort basis.

Goal 3 (Proposed Goal 4)

• Inclusion of a new Indicator 3.3 that focuses on having all paraprofessionals become qualified consistent with the requirements of ESEA section 1119 (c)-(e).

• Withdrawal of proposed Indicator 4.3: “The percentage of teachers qualified to use technology for instruction.”

Goal 4 (Proposed Goal 5)

• Withdrawal of all proposed indicators except Indicator 5.4 (now 4.1): “The number of persistently dangerous schools, as defined by the State.”

Goal 5 (Proposed Goal 6)

• Clarification of the two performance indicators, 5.1 and 5.2.

In addition, we have clarified for which indicator States must submit baseline data relative to their performance targets by May 2003, and for which indicators they may do so no later than early September 2003.

State Activities to Implement ESEA Programs: Appendix B

• For item 1 (state system of standards, assessments, and accountability), clarification of information the SEAs must submit consistent with ESEA section 1111, and, for each item, whether the SEA must do so in June of 2002, no later than May 2003, or at some other time.

• For item 2 (non-formula subgranting), inclusion of a description of definition of key ESEA terms that the SEA adopts for each program.

• For item 5a (assistance for schoolwide programs), inclusion of a description of the SEA's actions to modify or eliminate State fiscal and accounting barriers so that schools can easily consolidate Federal, State, and local funds for schoolwide programs.

• For item 5 (teacher quality), inclusion in a new item 5c of the State's need to describe how it will ensure that all paraprofessionals (excluding those working with parents or as translators) attain the qualifications in section 1119(c) and (d) by the 2005-2006 school year.

• For item 6 (state coordination), inclusion of the State's need to describe briefly how SEA officials and staff consulted with the Governor's office in the development of the State application.

Key Programmatic and Fiscal Information: Appendix C

• Improving Basic Programs Operated by Local Educational Agencies, Title I, Part A: Clarification that, for purposes of funds that LEAs distribute to schools for supplemental services under ESEA section 1167(e)(7), States will describe how they will inform LEAs of the procedures LEAs must use to distribute these funds, rather than describe how the State will distribute these funds.

• Teacher and Principal Training and Recruitment Fund, Title II, Part A: Establishment of a rule that of the one percent available to the State for administration and planning, absent an agreement between the SEA and the State agency for higher education (SAHE) to the contrary, the Department will award the SAHE the greater of—

1. The amount of FY 2001 funds it had received for administration under the predecessor Title II, ESEA Eisenhower Professional Development Program, or

2. Five percent of the amount available each year for subgrants to partnerships under ESEA section 2113(a)(2).

• Enhancing Education Through Technology, Title II, Part D: Addition of a new item 5a that SEAs describe program goals, performance indicators, performance objectives, and data sources for use in assessing program effectiveness in improving access to and use of educational technology by students and teachers in support of academic achievement.

• English Language Acquisition and Language Enhancement, Title III, Part A: Addition of a new item 6c that SEAs describe the process for making subgrants under section 3114(d) to eligible entities that have experienced a significant increase in the percentage or number of immigrant children and youth.

• Safe and Drug-Free Schools and Communities: Reservation of State Funds for the Governor, Title IV, Part A, Subpart 1, section 4112(a): Addition of new items 8b and 8c that SEAs describe (1) performance measures, performance indicators, timelines, and baseline data for drug and violence prevention programs and activities to be funded under this program, and (2) steps the State will use to implement the Uniform Management Information and Reporting System (UMIRS) required by ESEA section 4112(c)(3).

• Safe and Drug-Free Schools and Communities: Community Service Grants (Title IV, Part A, Subpart 2, section 4126): Adoption of the proposed rule that the Department will award grants only to SEAs, after they have consulted with their Governors.

• 21st Century Community Learning Centers (Title IV, Part B): Addition of new requirement that the SEA, no later than early September 2003—

1. Identify the percentage of students participating in the 21st Century Community Learning Centers program who meet or exceed the proficient level of performance on State assessments in reading/language arts and mathematics;

2. Collect baseline data for the 2002-2003 school year; and

3. Submit all of these data to the Department.

• Rural and Low-Income Schools, Title VI, Part B, Subpart 2: Inclusion of a description identifying specific measurable goals and objectives, and how program funds will help the SEA to meet them.

All of the changes above are reflected in the specific requirements for consolidated State applications that are contained in appendices A-D of this notice.

We also have made the following change to the selection criteria for the Enhanced Assessment Instruments Competitive Grant Program (Title VI, section 6112) announced in appendix E:

• Revision of the first proposed competitive preference for “alternative assessments” so that it is available for applications that can be expected to advance practice significantly in the area of increasing the accessibility and validity of assessments for students with disabilities or limited English proficiency, or both.

Finally, we have made the following change to the optional interim application for FY 2002 funds under the Safe and Drug-Free Schools and Communities State Grants Program, Title IV, Part A, Subpart 1 (appendix F):

• Revision of requirements to conform to the revised core set of ESEA performance indicators identified in appendix A.

We have published on the Department's website at http://www.ed.gov/offices/OESE/esea/regsandguidance.html the substantive comments we received, our responses to them, and these changes, as well as more minor or technical changes to the requirements for consolidated State applications. Generally, we do not address technical and other minor changes, or suggested changes in proposed requirements that the law does not authorize the Secretary to make.

II. Requirements for Consolidated State Applications

Each consolidated State application will have four principal components: (1) Elements constituting the foundation for a core system of ESEA accountability, State components and baseline data (see appendix A); (2) a description of key strategies States would use to implement the ESEA programs in order to accomplish program purposes; (see appendix B); (3) key programmatic and fiscal information that the Department needs to review before it awards FY 2002 funds (see appendix C); and (4) assurances of the State's adherence to all requirements of the programs included in the application (see appendix D).

Summary of the ESEA Accountability System

A. “ESEA Performance Goals” The ESEA performance goals reflect the expectations of the ESEA programs. We have identified in appendix A five ESEA performance goals that each SEA submitting a consolidated application will adopt. These are:

1. By 2013-2014, all students will reach high standards, at a minimum attaining proficiency or better in reading/language arts and mathematics.

2. All limited English proficient students will become proficient in English and reach high academic standards, at a minimum attaining proficiency or better in reading/language arts and mathematics.

3. By 2005-2006, all students will be taught by highly qualified teachers.

4. All students will be educated in learning environments that are safe, drug free, and conducive to learning.

5. All students will graduate from high school.

These performance goals, like the basic purposes of the ESEA programs themselves, fall into three areas: (a) Those that address levels of proficiency that all students would meet; (b) those that address the special needs of certain populations of students, such as limited English proficient students, who are the focus of particular ESEA programs; and (c) those that address such factors as qualified teachers and safety that are critical to a school's success in improving student achievement.

B. “ESEA Performance Indicators” States will use performance indicators to measure their progress in meeting the performance goals. Along with adopting the five key performance goals identified above, States that submit a consolidated application will submit a statement that they have adopted, at minimum, a core set of indicators for these five performance goals. For example, as explained in appendix A, relative to the third ESEA performance goal, “By 2005-2006, all students will be taught by highly qualified teachers,” all States will adopt and use the following indicator:

EXAMPLE: 3.1. Performance Indicator: “The percentage of classes being taught by “highly qualified” teachers (as the term is defined in ESEA section 9101(23)), in the aggregate and in ‘high-poverty’ schools (as the term is defined in ESEA section 1111(h)(1)(C)(viii)).”

State adoption of the common core indicators listed in appendix A is critical to ensuring that all States are accountable for implementing the ESEA programs in ways that contribute significantly to the achievement of all students. As with the ESEA performance goals, States are free to add their own performance indicators to the core set of indicators that the Department has established.

C. “Performance targets” Performance targets define the progress a State expects to make at specified points in time with respect to each indicator. For example, for indicator 3.1, described in the preceding paragraph, a State might adopt as a target: the percentage of classes being taught by highly qualified teachers, in the aggregate and in high-poverty schools, will increase from the baseline of “x” percent in school year 2002-2003 to “y” percent in school year 2003-2004, “z” percent in school year 2004-2005, etc.

While all States submitting a consolidated application must adopt the core set of ESEA performance goals and indicators in appendix A, each State defines and adopts its own performance targets. (See appendix A for some examples of performance targets that States might choose to use.)

Finally, the accountability system relies upon collection of data that document how well States are succeeding in meeting their performance targets. States will describe in their consolidated applications their timelines and benchmarks for securing these data, as well as their data sources. States also will provide their “baseline data.” For example, if a State adopted the performance target described above, it would identify as its baseline “the percentage of classes being taught by highly qualified teachers, in the aggregate and in high-poverty schools, in school year 2002-2003.” In its annual performance report, a State will provide updated data on its progress in meeting these performance targets.

States may include web site references, electronic files, or other existing documentation to comply with the requirements listed in the application.

Other Requirements for the Consolidated Application

In addition to the framework for ESEA accountability, a State's consolidated application also must include:

A. A description of key strategies States will use to implement the ESEA programs in order to accomplish the purposes of those programs (see appendix B);

B. Key programmatic and fiscal information the Department needs to award FY 2002 funds (see appendix C). The information to be included in the consolidated State application is a small part of what the ESEA program statutes would have a State otherwise provide in individual program plans or applications; and

C. Assurances of the State's adherence to all requirements of the programs included in the application (see appendix D). The final application package for the consolidated application contains a partial list of individual program requirements that are while covered by these general assurances, and that we believe warrant special attention.

III. Documentation of Compliance With Program Requirements

For programs a State chooses to include in a consolidated application, ESEA section 9302(a)(2) relieves the State of the need to either prepare or submit to the Department separate individual State plans or applications that the ESEA would otherwise require in order to receive funding on a program-by-program basis. However, section 9302 contains no authority for the Department to eliminate or waive statutory or regulatory requirements that apply to the funds the Department awards on the basis of a consolidated application.

Therefore, whether or not the ESEA specifies program requirements as elements of a program-specific plan (or application), a State (or LEA) that submits a consolidated application still must (1) comply with all requirements for designing and implementing programs, and (2) maintain documentation of this compliance. These requirements might govern, for example, public input, program implementation, or evaluation. Also, a State must comply with, and maintain records of its compliance with, requirements of the consolidated application announced in this notice.

(Note: To the extent consistent with State “open records” statutes, documents demonstrating adherence to ESEA requirements will be available to parents, policymakers, and other members of the public.)

In determining whether the statute, regulations, or requirements governing the consolidated application requires the State to document its plans or planning activities, we suggest that States consider the following:

1. Does the ESEA require the State to develop a plan that is separate from the application for funding? For example, does the ESEA require that the State include a separate plan, or a description of a separate plan, with the application? Or does the ESEA require that a State that has received program funding develop or implement a plan of this kind?

If the answer to any of these questions is yes, the State must develop that plan and maintain it in its written records, even if the State includes the program in its consolidated application.

2. Does the statute require that a State conduct a specified activity? For example, does it require a description of the results of a needs assessment or procedures for consulting with others? If so, it requires that specific activities (expressed as application content requirements) be undertaken—e.g., a needs assessment or consultation, and the State would need to maintain documentation showing that it had conducted the activity.

3. Does the law require that a State's individual program plan or application describe how activities “will” occur only after some precondition, such as a review of scientifically-based research?

If the answer is yes, the State must conduct those program activities after meeting the precondition, and must maintain documentation that it has done so.

IV. Consolidation of Federal Funds

Title VI of the ESEA contains a number of flexibility provisions that permit States and LEAs to treat funds received under some programs as if received under other programs. In addition, sections 9201-9203 continue to permit SEAs and LEAs to consolidate administrative funds under specified programs. However, beyond the flexibility that these provisions offer, our approval of a consolidated State application neither authorizes a State or LEA to combine or commingle program funds nor eliminates State or LEA responsibilities to keep separate records on the use of each program's funds.

V. Data Management Reform

Starting in 2002, we will work with LEAs and SEAs to establish data standards for performance indicators and other information collected from States and districts. Toward that end, we will confer with LEA and SEA officials, the research community, information technology vendors, and other interested parties on ways in which States, LEAs, and schools can collect and record useful baseline and follow-up data through an Internet-based format. The new format will accommodate the measurement of success relative to the various indicators that the Department and States have adopted. Future application and reporting guidelines will encourage electronic reporting and provide States with additional options in fulfilling Federal information requests.

VI. Other Considerations

The requirements for the content of a State's consolidated application recognize that although the NCLB makes significant changes to the ESEA, it also builds upon efforts States had begun under both the ESEA as previously authorized and other Federal and State initiatives. In developing their consolidated applications, States may draw upon relevant information and data gathered through these efforts.

To help States try to save money by working together to implement the core system of ESEA accountability, the Department intends to work with States to see whether development and use of common or consistent data collection systems can reduce costs for each State.

VII. Process for Submitting a Consolidated State Application

As explained in the March 6 notice of proposed requirements (67 FR 10168), we recognize the challenges posed by the January 2002 enactment of the NCLB. States have a limited time to prepare and submit their consolidated applications and to plan for their use of the FY 2002 ESEA program funds the Department will distribute this July. In addition, the ESEA includes a large number of new requirements that govern a State's use of these FY 2002, and the Department needs to ensure that States understand them before it awards these funds.

In balancing thee factors, we have determined that, with the exceptions noted in appendix B, each SEA submitting a consolidated application must provide the Department certain information in the following three stages:

June 2002 No later than June 12, 2002, the State must submit:

A. A statement that it: (a) Has adopted the minimum core ESEA goals and performance indicators that the Department has established, (b) agrees to adopt and include in its May 2003 submission, its own performance targets for these indicators, and (c) agrees to include baseline data for these indicators in May 2003 or September 2003, respectively, as specified in the in the following discussion of the schedule for submissions (appendix A);

B. A description of the key activities and initiatives the State will carry out with State funds or ESEA funds reserved for administration and State-level activities (appendix B) including—

• Activities to help achieve its performance targets, i.e., information about the State's standards, assessments, and accountability system (of which for certain items States will submit only timelines in June 2002);

• Subgranting procedures;

• Technical assistance, monitoring, and professional development, and

• Activities to promote highly-qualified Teachers in all schools, support for schoolwide programs, and effective coordination of Federal programs; and

C. The individual ESEA program descriptions and fiscal information that the Department determines are needed in order to ensure program integrity (appendix C), and the required statutory assurances and certification (appendix D).

May 2003 No later than early May 2003, the State must submit to the Department those performance targets and corresponding baseline data that the ESEA requires the State to establish based on the 2001-2002 school year. The OMB-approved application package identifies those performance indicators for which the State must provide its targets and baseline data in early May 2003. We will announce a specific due date in May 2003 at a later time.

September 2003 No later than early September 2003, the State must submit its performance targets and baseline data that relate to other ESEA requirements. These baseline data must reflect either the 2001-2002 or 2002-2003 school year. The OMB-approved application package identifies those performance indicators for which the State must provide its targets and indicators no later than early September 2003. We will announce a specific due date in September 2003 at a later time.

Other Submission Dates

Appendix B identifies a limited amount of other information that States must submit at a different due date, e.g., submission of the State's definition of adequate yearly progress (AYP), as well as how the State calculated its “starting point” as required for AYP by January 31, 2003.

VIII. Programs That May Be Included in a Consolidated Application

A State may include the following programs in its consolidated application:

Title I, Part A: Improving Basic Programs Operated by Local Educational Agencies.

Title I, Part B, Subpart 3: Even Start Family Literacy.

Title I, Part C: Education of Migrant Children.

Title I, Part D: Prevention and Intervention Programs for Children and Youth Who Are Neglected, Delinquent, or At-Risk.

Title I, Part F: Comprehensive School Reform.

Title II, Part A: Teacher and Principal Training and Recruiting Fund.

Title II, Part D: Enhancing Education Through Technology.

Title III, Part A: English Language Acquisition and Language Enhancement.

Title IV, Part A, Subpart 1: Safe and Drug-Free Schools and Communities.

Title IV, Part A, Subpart 2: Community Service Grants.

Title IV, Part B: 21st Century Community Learning Centers.

Title V, Part A: Innovative Programs.

Title VI, Part B, Subpart 2: Rural and Low-Income Schools.

In addition, for reasons states in the March 6 Federal Register notice, the Secretary has designated both the formula and discretionary components of the program supporting development of State assessments, authorized in sections 6111 and 6112 of Title VI, as programs that SEAs may include in their consolidated applications. Section 6111, the State Assessment formula grants program provides grants to States for development of State assessments and related activities. Section 6112, the Enhanced Assessment competitive grants program, provides competitive grants to States for development of “enhanced assessment instruments.” These two programs bear a close relationship to the development of a State system of accountability for student achievement that is at the heart of the Title I, Part A program. The Department's selection criteria and other requirements to govern the initial competition under the competitive grant portion of the section 61111 program are contained in appendix E. SEAs that choose to apply for the competitive grant program must submit their applications by September 15, 2002.

IX. Public Participation Requirements

ESEA section 9304(a)(7) provides that a State must provide the public a reasonable opportunity to comment on a consolidated application before it is submitted to the Secretary. The procedures under which SEAs will secure adequate public participation are to be determined under State law. States that are unable to complete their public participation requirements, before the June 12, 2002 deadline for submitting their consolidated applications, must submit appropriate revisions to the applications at the end of the public participation process.

Many of the ESEA program statutes contain provisions that require stakeholder or public input into the process of developing program-specific funding plans or applications. Absent a State's decision to include those programs in its consolidated application, it would have to develop these individual program plans or applications in ways that complied with these public input requirements. The public participation requirement in section 9304(a)(7), rather than those program-specific public or stakeholder participation requirements, govern the development of a consolidated application for all included programs. However, as explained in Section IV, States will still need to comply with those public and stakeholder participation requirements that, under a given program statute, expressly apply to program planning and implementation.

X. Consolidated Local Plans or Applications

ESEA section 9305(a) authorizes LEAs to receive funding from the SEA under more than one “covered program” through consolidated local plans or applications. Section 9305(c) and (d) requires the SEA, in consultation with the Governor, to collaborate with LEAs in establishing procedures for submission of these plans or applications, and to require “only descriptions, information, assurances, and other material that are absolutely necessary for the consideration of the [LEA] plan or application.”

These provisions mirror provisions in section 9302 that govern the content and procedures for consolidated State applications. Consistent with the statutory language, we believe that SEAs in consultation with the Governor and LEAs have wide discretion in fashioning procedures and content for these plans or applications that focus on increased student achievement and other ESEA goals. However, we stress that LEAs submitting consolidated local plans or applications must still implement all of the statutory requirements—including record-keeping requirements—of the programs included in those plans or applications include. See section IV of this notice, “Documentation of Compliance With All Program Requirements.”

XI. Voluntary Submission of Consolidated State Applications

Development of a consolidated State application is voluntary. It is the SEA's decision whether to submit a consolidated application, which of the eligible programs to include in it if one is submitted, and whether to add, in later submissions, programs that are not included in the consolidated application submitted this June for FY 2002 funds. (Should an SEA choose to submit an individual, program specific application under the Safe and Drug-Free Schools and Communities program, the program statute (Title IV, Part A, Subpart 1) permits SEAs to submit an “interim” application in FY 2002, and a comprehensive application by FY 2003. Final rules for this interim program application are included in appendix F.) Moreover, an SEA that submits a consolidated application for FY 2002 funds that does not contain all of the information requested can later decide not to submit that outstanding information and, instead, submit individual program plans or applications that the ESEA, as amended by NCLB, requires.

Executive Order 12866

This notice has been reviewed in accordance with Executive Order 12866. Under the terms of the order, we have assessed the potential costs and benefits of this regulatory action.

The potential costs associated with the notice are those resulting from statutory requirements and those we have determined as necessary for administering this program effectively and efficiently.

In assessing the potential costs and benefits—both quantitative and qualitative—of this notice, we have determined that the benefits justify the costs.

We have also determined that this regulatory action does not unduly interfere with State, local, and tribal governments in the exercise of their governmental functions.

Summary of Potential Costs and Benefits: We do not anticipate that the application requirements proposed in this notice will impose any significant costs on applicants. These proposed requirements provide a basis for the Secretary to award funds from a number of different Federal programs under a single application. Therefore, the requirements would not impose any unfunded mandates on States. The benefits of the program are described in the SUMMARY section of this notice.

Regulatory Flexibility Act Certification

The Secretary certifies that the requirements in this notice would not have a significant economic impact on a substantial number of small entities.

Paperwork Reduction Act Considerations

The procedures and requirements contained in this notice relate to the consolidated State application package that the Department has developed under ESEA section 9309. The public may obtain copies of this package by calling or writing the individuals identified at the beginning of this notice as the Department's contact, or through the Department's website: http://www.ed.gov/offices/OESE/esea/regsandguidance.html.

As required by the Paperwork Reduction Act, OMB has approved the use of these application packages under the following OMB control number 1810-0576, expiration date November 30, 2002.

Intergovernmental Review

These programs are subject to Executive Order 12372 and the regulations in 34 CFR part 79. One of the objectives of the Executive order is to foster an intergovernmental partnership and a strengthened federalism. The Executive order relies on processes developed by State and local governments for coordination and review of proposed Federal financial assistance.

This document is intended to provide early notification of our specific plans and actions for this program.

Electronic Access to This Document

You may view this document, as well as all other Department of Education documents published in the Federal Register, in Text or Adobe Portable Document Format (PDF) on the Internet at the following site: http://www.ed.gov/legislation/FedRegister.

To use PDF you must have Adobe Acrobat Reader, which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 7842.

Dated: May 16, 2002.
Susan B. Neuman,
Assistant Secretary for Elementary and Secondary Education.
Maria H. Ferrier,
Director of English Language Acquisition, Language Enhancement, and Academic Achievement for Limited English Proficient Students.

Appendix A: ESEA Performance Goals, Performance Indicators, and State Performance Targets

State and local accountability for the academic achievement of all students is central to the No Child Left Behind Act of 2001. The consolidated State application builds the framework for a system of overall ESEA accountability that is intended to help the public understand how well the State is meeting its student achievement goals for all students. This system is built around with several key elements:

1. ESEA “Performance goals” that the Department has established. These goals reflect the basic purposes of the ESEA and the programs included in the consolidated application.

2. ESEA “Performance indicators” that the Department has established for each ESEA performance goal. States submitting a consolidated State application will use these indicators to measure their progress in meeting the ESEA performance goals.

3. “Performance targets” that each State will establish. The performance targets define the progress a State expects to make at specified points in time with respect to each indicator. For example, for indicator 3.1, described below, a State might adopt as a target: the percentage of classes being taught by highly qualified teachers, in the aggregate and in high-poverty schools, will increase from the baseline of “x” percent in school year 2002-2003 to “y” percent in school year 2003-2004, “z” percent in school year 2004-2005, etc.

We identify the following five ESEA performance goals that are central to the purposes of the ESEA programs, and performance indicators for each of these performance goals. Each State must adopt this set of five performance goals and corresponding performance indicators. However, a State may include additional performance goals and indicators in its application if it desires to do so.

Performance Goal 1: All Students Will Reach High Standards, at a Minimum Attaining Proficiency or Better in Reading/Language Arts and Mathematics by 2013-2014

1.1 Performance indicator: The percentage of students, in the aggregate and for each subgroup, who are at or above the proficient level in reading/language arts on the State's assessment. (Note: These subgroups are those for which the ESEA requires State reporting, as identified in section 1111(h)(1)(C)(i).)

1.1.1 Example of a State performance target: The percentage of students, in the aggregate and in each subgroup, who will be at or above the proficient level in reading/language arts consistent with the State's annual measurable objectives for ensuring that all students reach this level by the end of the 2013-2014 school year.

Note: The State annual measurable objectives for all students in reading/language are the same as those the State includes in its definition of adequate yearly progress.

1.2 Performance indicator: The percentage of students, in the aggregate and in each subgroup, who are at or above the proficient level in mathematics on the State's assessment. (Note: These subgroups are those for which the ESEA requires State reporting, as identified in section 1111(h)(1)(C)(i).)

1.3 Performance indicator: The percentage of Title I schools that make adequate yearly progress.

1.3.1 Example of a State performance target: The percentage of Title I schools that make adequate yearly progress will increase by “x” percent each year from the percentage of schools that made adequate yearly progress in 2001-2002

Performance Goal 2: All Limited English Proficient Students Will Become Proficient in English and Reach High Academic Standards, at a Minimum Attaining Proficiency or Better in Reading/Language Arts and Mathematics

2.1 Performance Indicator: The percentage of limited English proficient students, determined by cohort, who have attained English proficiency by the end of the school year.

2.2 Performance indicator: The percentage of limited English proficient students who are at or above the proficient level in reading/language arts on the State's assessment, as reported for Performance Indicator 1.1.

2.3 Performance indicator: The percentage of limited English proficient students who are at or above the proficient level in mathematics on the State's assessment, as reported for Performance Indicator 1.2.

Performance Goal 3: By 2005-2006, All Students Will Be Taught by Highly Qualified Teachers

3.1 Performance indicator: The percentage of classes being taught by “highly qualified” teachers (as the term is defined in ESEA section 9101(23), in the aggregate and in “high-poverty” schools (as the term is defined in ESEA section 1111(h)(1)(C)(viii)).

3.1.1. Example of a State performance target: The percentage of classes being taught by highly qualified teachers, in the aggregate and in high-poverty schools, will increase from the baseline of “x” percent in 2001-2002 to “y” percent in 2002-2003, “z” percent in 2003-2004, etc.

3.2 Performance indicator: The percentage of teachers receiving high-quality “professional development” as the term is defined in ESEA section 9101(34).

3.3 Performance Indicator: The percentage of paraprofessionals (excluding those with sole duties as translators and parental involvement assistants) who are qualified. (See criteria in section 1119(c) and (d).)

Performance Goal 4: All Students Will Be Educated in Learning Environments That Are Safe, Drug Free, and Conducive to Learning

4.1 Performance indicator: The number of persistently dangerous schools, as defined by the State.

Note: The lack of other performance indicators from this Goal 4 demonstrates our difficulty in finding good measures that can reliably link indicators of schools that are safe, drug-free, and conducive to quality teaching and academic achievement. Students and teachers plainly need to work in learning environments that are safe and drug-free. Technology, which we had proposed as a subject of performance indicators for this goal, like other instructional tools can be a powerful means of helping teachers and other school staff make a school environment conducive to learning. In determining whether individual States and the Nation as a whole are meeting Goal 4, the Department intends to seek other means of obtaining useful information.

Performance Goal 5: All Students Will Graduate From High School

5.1 Performance indicator: The percentage of students who graduate from high school each year with a regular diploma—disaggregated by race, ethnicity, gender, disability status, migrant status, English proficiency, and status as economically disadvantaged—calculated in the same manner as used in National Center for Education Statistics reports on Common Core of Data.

5.2 Performance indicator: The percentage of students who drop out of high school—disaggregated by race, ethnicity, gender, disability status, migrant status, English proficiency, and status as economically disadvantaged—calculated in the same manner as used in National Center for Education Statistics reports on Common Core of Data. (ESEA section 1907 requires States to report all LEA data regarding annual school dropout rates in the State disaggregated by race and ethnicity according to procedures that conform with the National Center for Education Statistics' (NCES’) Common Core of Data. Consistent with this requirement, in developing their performance targets for Indicator 5.2 States must use NCES’ definition of “high school dropout,” i.e., a student in grade 9-12 who—

(a) Was enrolled in the district at some time during the previous school year;

(b) Was not enrolled at the beginning of the succeeding school year;

(c) Has not graduated or completed a program of studies by the maximum age established by a State;

(d) Has not transferred to another public school district or to a nonpublic school or to a State-approved educational program; and

(e) Has not left school because of death, illness, or a school-approved absence.)

Note: As it develops regulations or guidance for the Title I, Part A program, the Department will determine what, if any, modifications to Indicators 5.1 and 5.2 are needed to ensure conformance with Title I requirements.

During 2002, the Department will work with LEAs and SEAs to establish data standards for performance indicators and other information collected from States and districts. Toward that end, the Department will confer with LEA and SEA officials, the research community, information technology vendors, and other interested parties on ways in which States, LEAs, and schools can collect and electronically record useful baseline and follow-up data through an Internet-based format. The new format will accommodate indicators that the Department and States have adopted to measure success. Future application and reporting guidelines will encourage electronic reporting and provide States with additional options in fulfilling federal information requests.

Appendix B: State Activities To Implement ESEA Programs

States will conduct a number of activities to ensure effective implementation of the ESEA programs included in their consolidated applications. Many of the activities may serve multiple programs. For example, a State may develop a comprehensive approach to monitoring and technical assistance that will be used for several (or all) programs. In responding to the items in this section, an SEA will indicate the ESEA programs that will benefit from the activities it describes. Where applicable, States may include web site references, electronic files, or other existing documentation to comply with the requirements listed in the application.

1. Describe the State's system of standards, assessments, and accountability and provide evidence that it meets the requirements of the ESEA. In doing so—

a. In the June 2002 submission, provide a timeline of major milestones for either—

i. Adopting challenging content standards in reading/language arts and mathematics at each grade level for grades 3 through 8, consistent with ESEA section 1111(b)(1), or

ii. Disseminating grade-level expectations for reading/language arts and mathematics for grades 3 through 8 to LEAs and schools if the State's academic content standards cover more than one grade level.

(Note: This information must be consistent with the final regulations that the Department expects to issue in August 2002.)

By May 1, 2003, provide evidence that the State has adopted standards or disseminated grade-level expectations.

If the State already has content standards or has disseminated grade-level expectations that meet the requirements, provide—

i. A statement to this effect in the June 2002 submission, and

ii. Evidence when the Department requests it, which will likely be in fall 2002 after the Department issues final regulations and guidance.

b. In the June 2002 submission, provide a timeline of major milestones for adopting challenging content standards in science that meet the requirements of section 1111(b)(1).

By May 1, 2003, provide a detailed timeline for the above.

By May 1, 2006, but as soon as available, provide evidence that the State has adopted challenging content standards in science that meet the requirements of section 1111(b)(1).

If the State already has adopted science standards that meet the requirements of section 1111(b)(1), provide—

i. A statement to this effect in the June 2002 submission, and

ii. Evidence when the Department requests it, which will likely be in fall 2002, after the Department issues final regulations and guidance.

c. In the June 2002 submission, provide a timeline of major milestones for the development and implementation, in consultation with LEAs, of assessments that meet the requirements of section 1111(b)(3) in the required subjects and grade levels.

By May 1, 2003, provide a detailed timeline for the above.

No later than indicated in the following schedule, but as soon as available, provide evidence that the State has developed and implemented, in consultation with LEAs, assessments that meet the requirements of section 1111(b)(3) in the required subjects and grade levels.

If the State already has implemented some of these assessments, provide—

i. A statement to this effect in the June 2002 submission, and

ii. Evidence when the Department requests it, which will likely be in the fall of 2002, after the Department issues final regulations and guidance.

Schedule for Assessments

Subject: Mathematics

Grades: 3-8.

Implement by: 2005-06.

Submit evidence by: December 2006.

Subject: Reading/Language Arts

Grades: 3-8.

Implement by: 2005-06.

Submit evidence by: December 2006.

Subject: Science

Grades: Elementary (3-5); Middle (6-9); High School (10-12).

Implement by: 2007-2008.

Submit evidence by: December 2008.

d. In the June 2002 submission, provide a timeline of major milestones for setting, in consultation with LEAs, academic achievement standards in mathematics, reading/language arts, and science that meet the requirements of section 1111(b)(1).

By May 2003, provide a detailed timeline for the above.

No later than indicated in the following schedule, but as soon as available, provide evidence that the State, in consultation with LEAs, has set academic achievement standards in mathematics, reading/language arts, and science that meet the requirements of section 1111(b)(1).

If the State already has implemented some of these academic achievement standards, provide—

i. A statement to this effect in the June 2002 submission, and

ii. Evidence when the Department requests it, which will likely be in the fall of 2002 after the Department issues final regulations and guidance.

Schedule for Academic Achievement Standards

Subject: Mathematics

Grades: 3-8.

Implement by: 2005-06.

Submit evidence by: December 2006.

Subject: Reading/Language Arts

Grades: 3-8.

Implement by: 2005-06.

Submit evidence by: December 2006.

Subject: Science

Grades: Elementary (3-5); Middle (6-9); High School (10-12).

Implement by: 2007-2008.

Submit evidence by: December 2008.

e. By January 31, 2003, describe how the State calculated its “starting point” as required for adequate yearly progress consistent with section 1111(b)(2)(E), including data elements and procedures for calculations.

f. By January 31, 2003, provide the State's definition of adequate yearly progress. The definition must include:

i. For the percentage of students meeting or exceeding the State's proficient level, provide for both reading/language arts and mathematics—

• The starting point percentage;

• The intermediate goals;

• The timeline; and

• Annual objectives.

ii. The definition of graduation rate (consistent with section 1111(b)(2)(c)(vi) and final regulations).

iii. One academic indicator for elementary and for middle schools.

iv. Any other (optional) academic indicators.

g. By January 31, 2003, identify the minimum number of students that the State has determined, based on sound statistical methodology, to be sufficient to yield statistically reliable information for each purpose for which disaggregated data are used and justify the determination. (Note: This information must be consistent with final regulations, which the Department expects to issue in August 2002.)

h. In the June 2002 submission, provide a plan for how the State will implement a single accountability system that uses the same criteria, based primarily on assessments consistent with section 1111(b), for determining whether a school has made adequate yearly progress, regardless of whether the school receives Title I, Part A, or other Federal funds.

By May 2003, provide evidence that the State has implemented a single accountability system consistent with sections 1111(b) and 1116.

i. In the June 2002 submission, identify the languages present in the student population to be assessed, the languages in which the State administers assessments, and the languages in which the State will need to administer assessments. Use the most recent data available and identify when these data were collected.

j. In the June 2002 submission, provide evidence that, beginning not later than the school year 2002-2003, LEAs will provide for an annual assessment of English proficiency that meets the requirements of ESEA sections 1111(b)(7) and 3116(d)(4), including assessment of English proficiency in speaking, listening, reading, writing, and comprehension. Identify the assessment(s) the State will designate for this purpose.

k. In the June 2002 submission, describe the status of the State's effort to establish standards and annual measurable achievement objectives under ESEA section 3122(a) that relate to the development and attainment of English proficiency by limited English proficient children. These standards and objectives must relate to the development and attainment of English proficiency in speaking, listening, reading, writing, and comprehension and be aligned with the State academic content and student academic achievement standards as required by ESEA section 1111(b)(1).

If they are not yet established, describe the State's plan and timeline for completing the development of these standards and achievement objectives. Include in the May 2003 submission the State's annual measurable achievement objectives under ESEA section 3122(a).

(Note: Descriptions 2-6 must be included with the State's June 2002 submission.)

2. Describe key procedures, selection criteria, interpretations provided for any key ESEA terms, and priorities the State will use to award competitive subgrants or contracts to the entities and for the activities required by the program statutes of applicable programs included in the consolidated application. States should include a description of how, for each program, these selection criteria and priorities will promote improved academic achievement. Applicable included programs are:

• Even Start Family Literacy (Title I, Part B).

• Education of Migrant Children (Title I, Part C).

• Prevention and Intervention for Children Who Are Neglected, Delinquent, or At-Risk—Local Agency Programs (Title I, Part D, Subpart 2).

• Comprehensive School Reform (Title I, Part F).

• Teacher and Principal Training and Recruiting Fund—subgrants to eligible partnerships (Title II, Part A, Subpart 3).

• Enhanced Education Through Technology (Title II, Part D).

• Safe and Drug-Free Schools and Communities—reservation for the Governor (Title IV, Part A, section 4112).

• Community Service Grants (Title IV, Part A, Section 4126).

• 21st Century Community Learning Centers (Title IV, Part B).

3. Describe how the State will monitor and provide professional development and technical assistance to LEAs, schools, and other subgrantees to help these entities implement their programs and meet the State's (and those entities' own) performance goals and objectives. This description should include the assistance the SEA will provide to LEAs, schools, and other subgrantees in identifying and implementing effective instructional programs and practices based on scientific research.

4. Describe the Statewide system of support under section 1117 for ensuring that all schools meet the State's academic content and student achievement standards, including how the State will provide assistance to low-performing schools.

5. Describe the activities the State will conduct to—

a. Help Title I schools make effective use of schoolwide programs to improve the achievement of all students, including specific steps the SEA is taking and will take to modify or eliminate State fiscal and accounting barriers so that schools can easily consolidate Federal, State, and local funds for schoolwide programs;

b. Ensure that all teachers, particularly those in high-poverty areas and those in schools in need of improvement, are highly qualified. This description should include the help the State will provide to LEAs and schools to—

(i) Conduct effective professional development activities;

(ii) Recruit and hire highly qualified teachers, including those licensed or certified through alternative routes; and

(iii) Retain highly qualified teachers;

c. Ensure that all paraprofessionals (excluding those working with parents or as translators) attain the qualifications in ESEA section 1119(c) and (d) by the 2005-2006 school year;

d. Help LEAs with a high need for technology, high percentages or numbers of children in poverty, and low-performing schools to form partnerships with other LEAs, institutions of higher education (IHEs), libraries, and other private and public for-profit and non-profit entities with technology expertise to improve the use of technology in instruction;

e. Promote parental and community participation in schools; and

f. Secure the baseline and follow-up data for the core ESEA accountability system discussed in appendix A.

6. Describe how—

a. SEA officials and staff consulted with the Governor's office in the development of the State application;

b. State officials will coordinate the various ESEA-funded programs with State-level activities the State administers; and

c. State officials and staff will coordinate with other organizations, such as businesses, IHEs, nonprofit organizations, and other State agencies, and with other State agencies, including the Governor's office, and with other Federal programs (including those authorized by Individuals with Disabilities Education Act, the Perkins Vocational and Technical Education Act, the Head Start Act, the Adult Education and Family Literacy Act, and the McKinney-Vento Homeless Assistance Act).

7. Describe the strategies the State will use to determine, on a regular basis, whether LEAs, schools, and other subgrantees are making satisfactory progress in meeting State and local goals and desired ESEA program outcomes. In doing so, the SEA should also describe how it will use data it gathers from subgrantees on how well they are meeting State performance targets, and the actions the State will take to determine or revise interventions for any LEAs, schools, and other subgrantees that are not making substantial progress.

Appendix C: Key Programmatic and Fiscal Information

The Department has an overall responsibility for ensuring the programmatic and fiscal integrity of the ESEA programs. Therefore, before we can award FY 2002 program funds the Department needs to review and approve information on how the State will comply with a few key requirements of the various ESEA programs that the State includes in the application. In particular, the Department will review the SEA responses to the following:

I. Key Program Requirements

1. Title I, Part B, Subpart 3—Even Start Family Literacy

a. Describe how the SEA will use its indicators of program quality to monitor, evaluate, and improve its Even Start projects, and to decide whether to continue operating them.

b. Describe what constitutes sufficient program progress when the SEA makes continuation awards.

c. Explain how the State's Even Start projects will provide assistance to low-income families participating in the program to help children in those families to achieve to the applicable State content and student achievement standards.

2. Title I, Part C—Education of Migrant Children

a. Describe the process the State will use to develop, implement, and document a comprehensive needs assessment that identifies the special educational and related needs of migratory children.

b. Describe the State's priorities for the use of migrant education program funds in order to have migratory students meet the State's performance targets for indicators 1.1, and 1.2 in appendix A (as well as 5.1 and 5.2 that expressly include migratory students), and how they relate to the State's assessment of needs for services.

c. Describe how the State will determine the amount of any subgrants the State will award to local operating agencies, taking into account the numbers and needs of migratory children, the statutory priority for service in section 1304(d), and the availability of funds from other Federal, State, and local programs.

d. Describe how the State will promote continuity of education and the interstate and intrastate coordination of services for migratory children.

e. Describe the State's plan to evaluate the effectiveness of its migrant education program and projects.

3. Title I, Part D—Children and Youth Who Are Neglected, Delinquent, or At-Risk

a. Describe the program goals, performance indicators, performance objectives, and data sources that the State has established for its use in assessing the effectiveness of the program in improving the academic and vocational and technical skills of students participating in the program.

b. Describe how the SEA is assisting projects funded under the program in facilitating the transition of children and youth from correctional facilities to locally operated programs.

4. Title I, Part F—Comprehensive School Reform

a. Describe the process the SEA will use to ensure that programs funded include and integrate all eleven required components of a comprehensive school reform program.

b. Describe the process the State will use to determine the percentage of Comprehensive School Reform schools with increasing number of students meeting or exceeding the proficient level of performance on State assessments in reading/language arts and mathematics.

5. Title II, Part A—Teacher and Principal Training and Recruiting Fund

a. If not fully addressed in the State's response to the information on performance goals, indicators, and targets in Appendix A, describe the remainder of the State's annual measurable objectives under ESEA section 1119(a)(2).

b. Describe how the SEA will hold LEAs accountable both for (1) meeting the annual measurable objectives described in ESEA section 1119(a)(2), and (2) ensuring that the professional development the LEAs offer their teachers and other instructional staff is consistent with the definition of “professional development” in ESEA section 9101(34).

Note: This program, and the financial support it provides to States, LEAs, and schools is vitally important to ensure that all students have teachers who are highly qualified, and who can help them to achieve to their maximum capabilities. The two items identified above supplement other information States need to provide in response to items in Appendix A, Goal 3; Appendix B, item 5b and c; and Appendix C, information on Title II, Part D (Enhancing Education Through Technology program) on how they plan to implement key teacher quality activities.

6. Title II, Part D—Enhanced Education Through Technology

a. Describe the program goals, performance indicators, performance objectives, and data sources that the State has established for its use in assessing the effectiveness of the program in improving access to and use of educational technology by students and teachers in support of academic achievement.

b. Provide a brief summary of the SEA's long-term strategies for improving student academic achievement, including technology literacy, through the effective use of technology in the classroom, and the capacity of teachers to integrate technology effectively into curricula and instruction.

c. Describe key activities that the SEA will conduct or sponsor with the funds it retains at the State level. These may include such activities as provision of distance learning in rigorous academic courses or curricula; the establishment or support of public-private initiatives for the acquisition of technology by high-need LEAs; and the development of performance measurement systems to determine the effectiveness of educational technology programs.

d. Provide a brief description of how—

i. The SEA will ensure that students and teachers, particularly those in the schools of high-need LEAs, have increased access to technology, and

ii. The SEA will coordinate the application and award process for State discretionary grant and formula grant funds under this program.

7. Title III, Part A—English Language Acquisition and Language Enhancement

a. Describe how the SEA will ensure that LEAs use program funds only to carry out activities that reflect scientifically based research on the education of limited English proficient children while allowing those grantees flexibility (to the extent permitted under State law) to select and implement such activities in a manner that they determine best reflects local needs and circumstances.

b. Describe how the SEA will hold LEAs accountable for meeting all annual measurable achievement objectives for limited English proficient children, and for making adequate yearly progress that raises the achievement of limited English proficient children.

c. Describe the process that the State will use in making subgrants under section 3114(d) to LEAs that have experienced a significant increase in the percentage or number of immigrant children and youth.

8. Title IV, Part A—Safe and Drug-Free Schools and Communities

a. Describe the key strategies in the State's comprehensive plan for the use of funds by the SEA and the Governor to provide safe, orderly, and drug-free schools and communities through programs and activities that—

i. Complement and support activities of LEAs under ESEA section 4115(b);

ii. Comply with the principles of effectiveness under section 4115(a); and

iii. Otherwise are in accordance with the purpose of Title IV, Part A.

Note: The reauthorized provisions of the Safe and Drug-Free Schools and Communities (SDFSC) Program clearly emphasize well-coordinated SEA and Governor's Program activities. The statute requires that significant parts of the program application be developed for each State's program, not for the SEA and Governors Programs individually. For this reason, each State must submit a single application for SDFSC SEA and Governors Program funds. States may choose to apply for SDFSC funding through this consolidated application or through a program-specific application.)

B. Describe the State's performance measures for drug and violence prevention programs and activities to be funded under Title IV, Part A, Subpart 1.

These performance measures must focus on student behaviors and attitudes. They must consist of (1) performance indicators for drug and violence prevention programs and activities, and (2) levels of performance for each performance indicator. The description must also include timelines for achieving the levels of performance stated, details about what mechanism the State will use to collect data concerning the indicators, and provide baseline data for indicators (if available).

c. Describe the steps the State will use to implement the Uniform Management Information and Reporting System (UMIRS) required by ESEA section 4112(c)(3). The description should include information about which agency(ies) will be responsible for implementing UMIRS, a tentative schedule for implementing UMIRS requirements, as well as preliminary plans for collecting required information.

9. Title IV, Part B, 21st Century Community Learning Centers

Identify the percentage of students participating in 21st Century Community Learning Centers who meet or exceed the proficient level of performance on State assessments in reading/language arts and mathematics. Baseline data is to be collected for the 2002-2003 school year, and submitted to the Department no later than September 2003 by a specific due date the Department will announce.

10. Title IV, Part B—21st Century Community Leaning Centers

Identify the percentage of students who participate in 21st Century Community Learning Centers who meet or exceed the proficient level of performance on State assessments in reading/language arts and mathematics. The State must collect baseline data for the 2002-2003 school year, and submit these data to the Department no later than early September of 2003 by a date the Department will announce.

11. Title VI, Part A, Subpart 1—grants for State Assessment and Related Activities

Describe how the State plans to use formula funds awarded under section 6113(b)(1) for the development and implementation of State assessments in accordance with section 6111 (1) and (2).

12. Title VI, Part B, Subpart 2—Rural and Low-Income School Program

a. Identify the SEA's specific measurable goals and objectives related to increasing student academic achievement; decreasing student dropout rates; or improvement in other educational factors the SEA may elect to measure, and describe how Rural and Low-Income School program funds will help the SEA meet the goals and objectives identified.

b. Describe how the State elects to make awards under the Rural and Low-Income School Program:

i. By formulas proportionate to the numbers of students in eligible districts;

ii. Competitively (please explain any priorities for the competition); or

iii. By a State-designed formula that results in equal or greater assistance being awarded to school districts that serve higher concentrations of poor students.

(Note: If a State elects the third option, the formula must be submitted for Department approval. States that elect this option may submit their State-designed formulas for approval as part of this submission.)

I. Key Fiscal Information

Consolidated Administrated Funds

1. Does the SEA Plan To Consolidate State-Level Administrative Funds?

If yes, please provide information and analysis concerning Federal and other funding that demonstrates that Federal funds constitute less than half of the funds used to support the SEA.

If yes, are there any programs whose funds are available for administration that the SEA will not consolidate?

2. Please Describe Your Plans for Any Additional Uses of Funds

Transferability

Does the State plan to transfer non-administrative State-level ESEA funds under the provisions of the State and Local Transferability Act (sections 6121 to 6123 of the ESEA)? If so, please list the funds and the amounts and percentages to be transferred, the program from which funds are to be transferred, and the program into which funds are to be transferred.

(Note: If the State elects to notify ED of the transfer in this document, the State's responses to the application's requests for information should reflect the State's comprehensive plan after the transfer. If the State has not elected to transfer funds at this time, it may do so at a later date. To do so, the State must (1) establish an effective date for the transfer, (2) notify the Department (at least 30 days before the effective date of the transfer) of its intention to transfer funds, and (3) submit the resulting changes to the information previously submitted in the State's consolidated application by 30 days after the effective date of the transfer.)

Program Specific Fiscal Information

1. Title I, Part A—Improving Basic Programs Operated by LEAs

a. Identify the amount of the reservation in section 1003(a) for school improvement that the State will use for State-level activities and describe those activities.

b. For the 95 percent of the reservation in section 1003(a) that must be made available to LEAs, describe how the SEA will allocate funds to assist LEAs in complying with the school improvement, corrective action, and restructuring requirements of section 1116 and identify any SEA requirements for use of those funds.

c. Identify what part, if any, of State administrative funds the SEA will use for assessment development under ESEA section 1004, and describe how those funds will be used.

d. Describe how the State will inform LEAs of the procedures LEAs must use to distribute funds for schools to use for supplemental services under section 1167(e)(7) and the procedures for determining the amount to be used for this purpose.

e. Describe how the State will use formula funds awarded under section 6113(b)(1) for the development and implementation of State assessments in accordance with section 6111.

2. Title I, Part B—Even Start Family Literacy

Identify the amount of the reservation under subsection 1233(a) that the State will use for each category of State-level activities listed in that section, and describe how the SEA will carry out those activities.

3. Title I, Part C—Education of Migratory Children

Identify the amount of funds that the SEA will retain from its Migrant Education Program (MEP) allocation, under section 200.41 of the Title I regulations (34 CFR 200.41), to carry out administrative and program functions that are unique to the MEP, and describe how the SEA will use those funds.

4. Title I, Part D—Children and Youth Who Are Neglected, Delinquent, or At-Risk

Describe how the funds reserved under section 1418 will be used for transition services for students leaving institutions for schools served by LEAs, or postsecondary institutions or vocational and technical training programs.

5. Title II, Part A—Teacher and Principal Training and Recruiting Fund

a. If applicable, of the one percent of the State's program allocation that ESEA section 2113(d) makes available to both the SEA and State agency for higher education (SAHE) for the costs of administration and planning, identify the amount the two agencies have agreed each agency will retain.

Note: In the absence of an agreement between the two agencies to apportion the one-percent in another way, of this amount the Department annually will award to the SAHE for administration and planning the greater of—

1. The amount of FY 2001 funds it had received for administration under the predecessor Title II, ESEA Eisenhower Professional Development Program, or

2. Five percent of the amount available each year for subgrants to partnerships under ESEA section 2113(a)(2).

The Department annually will award the remainder of the one-percent of the State allocation to the SEA for its costs of administration and planning. We will provide further guidance on within-State allocations of Title II, Part A funds reserved for administration in the guidance it is developing for the program.

b. Describe how the SEA will use funds reserved for State activities described in ESEA section 2113(c) to meet the teacher professional development and paraprofessional requirements in section 1119.

6. Title III, Part A—English Language Acquisition and Language Enhancement

a. Specify the percentage of the State's allotment that the State will reserve and the percentage of the reserved funds that the State will use for each of the following categories of State-level activities: professional development; planning, evaluation, administration, and interagency coordination; technical assistance; and providing recognition to subgrantees that have exceeded their annual measurable achievement objectives. A total amount not to exceed 5 percent of the State's allotment may be reserved by the State under ESEA section 3111(b)(2) to carry out one or more of these categories of State-level activities.

b. Specify the percentage of the State's allotment that the State will reserve for subgrants to eligible entities that have experienced a significant increase in the percentage or number of immigrant children and youth. A total amount not to exceed 15 percent of the State's allotment must be reserved by the State under section 3114(d)(1) to award this type of subgrant.

c. Specify the number of limited English proficient children in the State. (See definitions of “child” in ESEA section 3301(1), and “limited English proficient” in section 9101(25).)

d. Specify the number of immigrant children and youth in the State. (See definition of “immigrant children and youth” in ESEA section 3301(6).)

Note: ESEA section 3111 requires that State allocations for the Language Acquisition State grants be calculated on the basis of the number of limited English proficient children in the State compared to the number of such children in all States (80 percent) and the number of immigrant children and youth in the State compared to the number of such children and youth in all States (20 percent). The Department plans to use data from the 2000 Census to calculate State shares of limited English proficient students. However, these data on limited English proficient students will not be available for all States until September 2002. To ensure that States have access to funds as soon as they are available, the Department will provide, for FY 2002 only, an initial distribution of 50 percent of the funds under the limited English proficient portion of the formula based on State-reported data. As soon as Census data become available, the Department will recalculate and make final State allocations using 2000 Census data.

For the 20 percent of formula funds distributed to States based on State shares of immigrant children and youth, the Department will use the most recent State-reported data in allocating these funds. Census does not collect data that can be used to calculate State allocations for this part of the formula.

7. Title IV, Part A, Subpart 1, Section 4112(a)—Safe and Drug-Free Schools and Communities: Reservation of State Funds for the Governor

a. The Governor may reserve up to 20 percent of the State's allocation under this program to award competitive grants or contracts. Identify the percentage of the State's allocation that is to be reserved for the Governor's program.

b. The Governor may administer these funds directly or designate an appropriate State agency to receive the funds and administer this allocation. Provide the name of the entity designated to receive these funds, contact information for that entity (the name of the head of the designated agency, address, telephone number) and the “DUNS” number that should be used to award these funds.

8. Title IV, Part A, Subpart 2, Section 4126—Safe and Drug-Free Schools and Communities: Community Service Grants

Describe how the SEA, after it has consulted with the Governor, will use program funds to develop and implement a community service program for suspended and expelled students.

9. Title V, Part A—Innovative Programs

a. In accordance with ESEA section 5112(a)(1), describe the SEA's formula for distributing program funds to LEAs. Include information on how the SEA will adjust its formula to provide higher per-pupil allocations to LEAs that have the greatest numbers or percentages of children whose education imposes a higher-than-average cost per child, such as —

• Children living in areas with concentrations of economically disadvantaged families;

• Children from economically disadvantaged families; and

• Children living in sparsely populated areas.

b. Identify the amount or percentage the State will reserve for each State-level activity under section 5121, and describe the activity.

Appendix D: Assurances

With its June 2002 submission, an SEA will need to include a signed statement of its agreement to the following sets of assurances and cross cutting declaration:

1. General and Cross-Cutting Assurances. Section 9304(a) requires States to have on file with the Secretary, as part of their consolidated application, a single set of assurances, applicable to each program included in the consolidated application, that provide that—

a. Each such program will be administered in accordance with all applicable statutes, regulations, program plans, and applications;

b.i. The control of funds provided under each such program and title to property acquired with program funds will be in a public agency, a nonprofit private agency, institution, or organization, or an Indian tribe, if the law authorizing the program provides for assistance to those entities; and

b.ii. The public agency, nonprofit private agency, institution, or organization, or Indian tribe will administer those funds and property to the extent required by the authorizing law;

c. The State will adopt and use proper methods of administering each such program, including—

i. The enforcement of any obligations imposed by law on agencies, institutions, organizations, and other recipients responsible for carrying out each program;

ii. The correction of deficiencies in program operations that are identified through audits, monitoring, or evaluation; and

iii. The adoption of written procedures for the receipt and resolution of complaints alleging violations of law in the administration of the programs;

d. The State will cooperate in carrying out any evaluation of each such program conducted by or for the Secretary or other Federal officials;

e. The State will use such fiscal control and fund accounting procedures as will ensure proper disbursement of, and accounting for, Federal funds paid to the State under each such program;

f. The State will—

i. Make reports to the Secretary as may be necessary to enable the Secretary to perform the Secretary's duties under each such program; and

ii. Maintain such records, provide such information to the Secretary, and afford such access to the records as the Secretary may find necessary to carry out the Secretary's duties; and

g. Before the plan or application was submitted to the Secretary, the State afforded a reasonable opportunity for public comment on the plan or application and considered such comment.

2. ESEA Specific Assurances and Crosscutting Declaration. Each SEA also must provide an assurance that it will—

a. Comply with all operational requirements of the ESEA programs included in the consolidated application, whether the program statute identifies these requirements as a description or assurance that States would have addressed, absent this consolidated application, in a program-specific plan or application, and

b. Maintain records of the State's compliance with each of those requirements.

(Note: For the Safe and Drug-Free Schools programs, the SEA must have all appropriate assurances from the Governor on record.)

Through the general assurance and assurance (1) in section 9304(a), the SEA agrees to comply with all requirements of the ESEA and other applicable program statutes. While all requirements are important, we have identified in the application package a number of those to which we believe SEAs should pay particular attention in order to ensure the effective use of ESEA program funds in promoting increased student achievement. At the same time we stress that this list of program-specific requirements that the SEA is assuring it will meet is not exhaustive and that States are accountable for all program requirements.

3. Cross-Cutting Declaration: Certification of Compliance with Unsafe School Choice Option Requirements.

The State certifies that it has established and implemented a Statewide policy requiring that students attending persistently dangerous public elementary or secondary schools, as determined by the State (in consultation with a representative sample of local educational agencies), or who become victims of violent criminal offenses, as determined by State law, while in or on the grounds of public elementary and secondary schools that the students attend, be allowed to choose to attend a different, safe public elementary or secondary school (which may include a public charter school) within the local educational agency.

Appendix E: Enhanced Assessment Instruments Competitive Grant Program (Title VI, section 6112)—Program Information and Proposed Selection Criteria

Overview. Proficiency on State assessments required under Title I, Part A of the ESEA is the primary indicator in the ESEA of student academic achievement and, hence, the primary measure of State success in meeting the goals of No Child Left Behind. In view of the critical importance of these State assessments, ESEA section 6111 provides formula grants to all SEAs, and section 6112 authorizes the Secretary to make competitive grant awards to State educational agencies (SEAs) to help them enhance the quality of assessment and accountability systems.

Because of the close relationship between this program and Title I, Part A, section 6112 requires States wishing to apply for the competitive portion of the State assessment grants to include their applications for this program in the State plans they prepare under Title I, Part A. For this reason, the Secretary has designated this program for voluntary inclusion in a State's ESEA consolidated application even though it is not a formula grant program. In doing so, the Secretary establishes the following procedures and requirements to govern this competition.

Eligible applicants. By law, all eligible applicants must be SEAs or consortia of SEAs. An application from a consortium of SEAs must designate one SEA as the fiscal agent.

Proposed Award Amounts and Timelines. The statute requires that any funds appropriated in excess of the required amount for State assessment formula allocations (section 6111) be allocated as competitive grants. From the amount appropriated, approximately $17 million is available for the upcoming fiscal year 2002 competition. Subject to the minimum size of award provided in section 6113(b)(2)(A)(ii) (which is based on a State's enrollment of students ages 5-17), the Department estimates that it will make 20 awards ranging from $300,000 to $2,000,000, with an average size of $850,000.

All applications must be submitted on or before September 15, 2002. We expect to issue grant awards by December 1, 2002. Project periods will run until September 30, 2004.

Application requirements. Section 6112(a) requires that all funded applications demonstrate that States (or consortia of States) will—

1. Collaborate with institutions of higher education, other research institutions, or other organizations to improve the quality, validity, and reliability of State academic assessments beyond the requirements for the assessments described in section 1111(b)(3) of Title I, Part A;

2. Measure student academic achievement using multiple measures of student academic achievement from multiple sources;

3. Chart student progress over time; or

4. Evaluate student academic achievement through the development of comprehensive academic assessment instruments, such as performance and technology-based academic assessments.

Competitive preferences. Enhancing assessment instruments so that they take into consideration alternatives for assessing students with disabilities and limited English proficient students is one of the pressing needs in the area of assessments. In addition, the complexity of improving assessments calls for collaborative efforts between and among states to yield approaches that can be adapted in varied contexts and for effective dissemination of results to increase the likelihood that the projects funded will contribute to ongoing State efforts to improve their assessment systems.

Toward those ends, the Secretary establishes the following competitive preferences, and will award up to 35 points to an applicant based on how well its application meets these preferences. These preference points are in addition to points an applicant earns under the selection criteria.

1. Accommodations and alternate assessments (20 points) Applications that can be expected to advance practice significantly in the area of increasing accessibility and validity of assessments for students with disabilities or limited English proficiency, or both, including strategies for test design, administration with accommodations, scoring, and reporting.

2. Collaborative efforts (10 points) Applications that are sponsored by a consortium of States.

3. Dissemination (5 points) Applications that include an effective plan for dissemination of results.

Selection criteria. The Secretary establishes the following criteria and weights authorized by sections 75.209-210 of the Education Department General Administrative Regulations (EDGAR):

1. Need for the Project (10 points)

• The magnitude and severity of the problem to be addressed by the proposed project;

• The extent to which the proposed project will provide services or otherwise address the needs of students at risk of educational failure; and

• The extent to which the proposed project will focus on serving or otherwise addressing the needs of disadvantaged individuals.

2. Scope (10 points)

• The extent to which the goals and objectives to be achieved by the proposed project are clearly specified and measurable, and

• The extent to which the goals and objectives are sufficiently broad to be likely to result in significant change or improvement of one or more State assessment systems.

3. Significance (15 points)

• The potential contribution of the proposed project to increased knowledge or understanding of educational problems, issues, or effective strategies;

• The potential contribution of the proposed project to the development and advancement of theory, knowledge, and practices in the field of study;

• The extent to which the proposed project is likely to yield findings that may be used by other appropriate agencies and organizations; and

• The extent to which the proposed project involves the development or demonstration of promising new strategies that build on, or are alternatives to, existing strategies.

4. Quality of Project Design (30 points)

• The extent to which there is a conceptual framework underlying the proposed research or demonstration activities, and the quality of that framework;

• The quality of the proposed design and procedures for documenting project activities and results;

• The extent to which the design for implementing and evaluating the proposed project will result in information to guide possible replication of project activities or strategies, including information about the effectiveness of the approach or strategies employed by the project;

• The extent to which the proposed project is designed to build capacity and yield results that will extend beyond the period of Federal financial assistance;

• The extent to which the design of the proposed project reflects up-to-date knowledge from research and effective practice;

• The extent to which the proposed project represents an exceptional approach for meeting statutory purposes and requirements; and

• The quality of the methodology to be employed by the proposed project.

5. Quality of the Management Plan (5 points)

• The adequacy of the management plan to achieve the objectives of the proposed project on time and within budget, including clearly defined responsibilities, timelines, and milestones for accomplishing project tasks; and

• The extent to which the time commitments of the project director and principal investigator and other key project personnel are appropriate and adequate to meet the objectives of the proposed project.

6. Quality of Project Personnel (10 points)

• The extent to which the applicant encourages applications for employment from persons who are members of groups that have traditionally been underrepresented based on race, color, national origin, gender, age, or disability;

• The qualifications, including relevant training and experience, of the project director or principal investigator;

• The qualifications, including relevant training and experience, of key project personnel; and

• The qualifications, including relevant training and experience, of project consultants or subcontractors.

7. Adequacy of Resources (10 points)

• The adequacy of support, including facilities, equipment, supplies, and other resources from the SEA or the lead applicant SEA;

• The relevance and demonstrated commitment of each partner in the proposed project to the implementation and success of the project; and

• The extent to which the budget is adequate to support the proposed project.

8. Quality of the Evaluation Plan (10 points)

• The extent to which the methods of evaluation are thorough, feasible, and appropriate to the goals, objectives, and outcomes of the proposed project;

• The extent to which the methods of evaluation are appropriate to the context within which the project operates;

• The extent to which the methods of evaluation include the use of objective performance measures that are clearly related to the intended outcomes of the project and will produce quantitative and qualitative data to the extent possible; and

• The extent to which the evaluation will provide guidance about effective strategies suitable for replication or testing in other situations.

Appendix F—Optional Interim Application for FY 2002 Funds Under the Safe and Drug-Free Schools and Communities State Grants Program (Title IV, Part A, Subpart 1)

The Safe and Drug-Free Schools and Communities State Grants program authorizes States that desire to submit a program-specific application for FY 2002 funds to do so in either of two ways. A State may either submit (1) the comprehensive State application described in ESEA section 4113(a) or (2) an interim application that, under section 4113(b), offers the State an opportunity to develop and submit the comprehensive application prior to its receipt of fiscal year 2003 funds under the program.

Section 4113(b)(1) provides that the content of the interim application must be consistent with the requirements of that section of the law and contain the information that “the Secretary may specify in regulations.” So that States may understand their various options for applying for Safe and Drug-Free Schools and Communities State Grants program, the Department is using the vehicle of this notice to announce rules for this interim program application for FY 2002 funds.

States that desire to use this interim application to apply for FY 2002 Safe and Drug-Free Schools and Communities State Grants program funds must submit the following:

• A description of how the SEA will coordinate the agency's activities under this subpart with the chief executive office's drug and violence prevention programs and with the prevention efforts of other State agencies and other programs, as appropriate.

• A statement of the State's performance measures for drug and violence prevention programs and activities to be funded under this grant, which will be focused on student behavior and attitudes, derived from the State's needs assessment in section 4113(a)(9). These indicators must be developed through consultation between the State and local officials, and that consists of performance indicators for drug and violence prevention programs and activities, and levels of performance for each indicator. The description must also include timelines for achieving the levels of performance stated, details about what mechanisms the State will use to collect data concerning the stated indicators, and baseline data for indicators if they are available.

In its statement, the State must submit performance measures for (1) the following indicator: the number of persistently dangerous schools, as defined by the State, and for (2) other indicators that it identifies as appropriate based on its analysis of need and its comprehensive plan for use of funds:

• A description of how the State educational agency will review applications from local educational agencies, including how the agency will receive input from parents in such review.

• A description of how the State educational agency will monitor the implementation of activities and provide technical assistance for local educational agencies, community-based organizations, other public entities, and private organizations.

• A description of how the chief executive officer of the State will award funds under section 4112(a) and implement a plan for monitoring the performance of, and providing technical assistance to, grant recipients.

[FR Doc. 02-12865 Filed 5-21-02; 8:45 am]

BILLING CODE 4000-01-U